DEPARTMENT OF LABOR

Office of the Secretary

20 CFR Chs. I, IV, V, VI, VII, and IX

29 CFR Subtitle A and Chs. II, IV, V, XVII, and XXV

30 CFR Ch. I

41 CFR Ch. 60

48 CFR Ch. 29

Semiannual Agenda of Regulations

AGENCY: Office of the Secretary, Labor

ACTION: Semiannual Regulatory Agenda

SUMMARY: The internet has become the means for disseminating the entirety of the Department of Labor's semiannual regulatory agenda. However, the Regulatory Flexibility Act requires publication of a regulatory flexibility agenda in the Federal Register. This Federal Register Notice contains the regulatory flexibility agenda.

FOR FURTHER INFORMATION CONTACT: Laura M. Dawkins, Deputy Assistant Secretary for Policy, Office of the Assistant Secretary for Policy, U.S. Department of Labor, 200 Constitution Avenue NW, Room S-2312, Washington, DC 20210; (202) 693-5959.

Note: Information pertaining to a specific regulation can be obtained from the agency contact listed for that particular regulation.

SUPPLEMENTARY INFORMATION: Executive Order 12866 requires the semiannual publication of an agenda of regulations that contains a listing of all the regulations the Department of Labor expects to have under active consideration for promulgation, proposal, or review during the coming one-year period. The entirety of the Department's semiannual agenda is available online at www.reginfo.gov.

The Regulatory Flexibility Act (5 U.S.C. 602) requires DOL to publish in the Federal Register a regulatory flexibility agenda. The Department's Regulatory Flexibility Agenda, published with this notice, includes only those rules on its semiannual agenda that are likely to have a significant economic impact on a substantial number of small entities; and those rules identified for periodic review in keeping with the requirements of section 610 of the Regulatory Flexibility Act. Thus, the regulatory flexibility agenda is a subset of the Department's semiannual regulatory agenda. The Department's Regulatory Flexibility Agenda does not include section 610 items at this time.

All interested members of the public are invited and encouraged to let departmental officials know how our regulatory efforts can be improved and are invited to participate in and comment on the review or development of the regulations listed on the Department's agenda.

Lori Chavez-DeRemer,
Secretary of Labor.

Wage and Hour Division—Proposed Rule Stage
Sequence No. | Title | Regulation Identifier No.
114 | Application of the Fair Labor Standards Act to Domestic Service | 1235-AA55

Wage and Hour Division—Long-Term Actions
Sequence No. | Title | Regulation Identifier No.
115 | Defining and Delimiting the Exemptions for Executive, Administrative, Professional, Outside Sales, and Computer Employees | 1235-AA39

Employment and Training Administration—Final Rule Stage
Sequence No. | Title | Regulation Identifier No.
116 | Employer-Provided Survey Wage Methodology for the Temporary Non-Agricultural Employment H-2B Program | 1205-AC15

Employment and Training Administration—Completed Actions
Sequence No. | Title | Regulation Identifier No.
117 | Temporary Employment of H-2B Foreign Workers in the United States | 1205-AB93
118 | National Apprenticeship System Enhancements | 1205-AC13

Employee Benefits Security Administration—Final Rule Stage
Sequence No. | Title | Regulation Identifier No.
119 | Independent Dispute Resolution Operations | 1210-AC17

Employee Benefits Security Administration—Completed Actions
Sequence No. | Title | Regulation Identifier No.
120 | Enhancing Coverage of Preventive Services under the Affordable Care Act (CMS-9887-P) | 1210-AC25

Occupational Safety and Health Administration—Proposed Rule Stage
Sequence No. | Title | Regulation Identifier No.
121 | Communication Tower Safety | 1218-AC90
122 | Emergency Response | 1218-AC91
123 | Tree Care Standard | 1218-AD04
124 | Heat Injury and Illness Prevention in Outdoor and Indoor Work Settings | 1218-AD39

Occupational Safety and Health Administration—Long-Term Actions
Sequence No. | Title | Regulation Identifier No.
125 | Process Safety Management and Prevention of Major Chemical Accidents | 1218-AC82
126 | Workplace Violence in Health Care and Social Assistance | 1218-AD08

Occupational Safety and Health Administration—Completed Actions
Sequence No. | Title | Regulation Identifier No.
127 | Infectious Diseases | 1218-AC46

Department of Labor (DOL): Wage and Hour Division (WHD) | Proposed Rule Stage

114. • APPLICATION OF THE FAIR LABOR STANDARDS ACT TO DOMESTIC SERVICE [1235-AA55]

Legal Authority: 29 U.S.C. 213(a)(15); 29 U.S.C. 213(b)(21)

Abstract: Section 13(a)(15) of the Fair Labor Standards Act (FLSA or the Act) provides an exemption from the Act's minimum wage and overtime pay requirements for domestic service employees engaged in providing companionship services for individuals who (because of age or infirmity) are unable to care for themselves. Section 13(b)(21) of the FLSA provides an exemption from the Act's overtime pay requirement for domestic service employees who reside in the household in which they provide services. This notice indicates that WHD will review regulations implementing sections 13(a)(15) and 13(b)(21) of the FLSA.

Timetable:

Action | Date | FR Cite
NPRM | 07/02/25 | 90 FR 28976
NPRM Comment Period End | 09/03/25

Regulatory Flexibility Analysis Required: Yes

Agency Contact: Daniel Navarrete, Director, Division of Regulations, Legislation, and Interpretation (DRLI), Department of Labor, Wage and Hour Division, 200 Constitution Avenue NW, Room S-3502, Washington, DC 20210

Phone: 202 693-0406

Email: navarrete.daniel@dol.gov

RIN: 1235-AA55

Department of Labor (DOL): Wage and Hour Division (WHD) | Long-Term Actions

115. DEFINING AND DELIMITING THE EXEMPTIONS FOR EXECUTIVE, ADMINISTRATIVE, PROFESSIONAL, OUTSIDE SALES, AND COMPUTER EMPLOYEES [1235-AA39]

Legal Authority: 29 U.S.C. 201 et seq.; 29 U.S.C. 213

Abstract: In 2023, the Department of Labor (Department) proposed to update and revise the regulations issued under the Fair Labor Standards Act implementing the exemptions from minimum wage and overtime pay requirements for executive, administrative, professional, outside sales, and computer employees. Several sections of the proposal were addressed in a final rule published by the Department on April 26, 2024. However, the 2024 final rule did not finalize proposals in sections IV.B.1 and B.2 of the NPRM to apply the updated standard salary level to the four U.S. territories that are subject to the federal minimum wage (Puerto Rico, Guam, the U.S. Virgin Islands, and the Commonwealth of the Northern Mariana Islands) and to update the special salary levels for American Samoa and the motion picture industry in relation to the new standard salary level. In the 2024 rule, the Department said it will address these aspects of its proposal in a future final rule. However, the proposals finalized in the 2024 rule were subsequently vacated and the Department is currently reviewing the 2024 rule and determining how to proceed.

Timetable:

Action | Date | FR Cite
NPRM | 09/08/23 | 88 FR 62152
NPRM Comment Period End | 11/07/23
Final Rule | 04/26/24 | 89 FR 32842
Final Rule Effective | 07/01/24
Next Action Undetermined

Regulatory Flexibility Analysis Required: Yes

Agency Contact: Daniel Navarrete, Director, Division of Regulations, Legislation, and Interpretation (DRLI), Department of Labor, Wage and Hour Division, 200 Constitution Avenue NW, Room S-3502, Washington, DC 20210

Phone: 202 693-0406

Email: navarrete.daniel@dol.gov

RIN: 1235-AA39

Department of Labor (DOL): Employment and Training Administration (ETA) | Final Rule Stage

116. EMPLOYER-PROVIDED SURVEY WAGE METHODOLOGY FOR THE TEMPORARY NON-AGRICULTURAL EMPLOYMENT H-2B PROGRAM [1205-AC15]

Legal Authority: 8 U.S.C. 1101(a)(15)(H)(ii)(b); 8 U.S.C. 1103(a)(6); 8 U.S.C. 1184(c)(1); Pub. L. 118-47, Division D, Title I, sec. 110 (3/23/24)

Abstract: The Immigration and Nationality Act, as amended, requires the Department of Homeland Security (DHS), prior to the approval of H-2B visa petitions, to consult with the Department of Labor (Department). DHS' regulation at 8 CFR 214.2(h)(6) requires that employers first apply for a temporary labor certification from the Department. Specifically, the Department must certify that there are not sufficient U.S. workers able, available, willing, and qualified to perform the temporary services or labor, and that the employment of the H-2B workers will not adversely affect the wages and working conditions of similarly employed U.S. workers. To ensure that there is no adverse effect, DOL requires employers to pay the prevailing wage to H-2B workers. Employer-provided surveys may serve as a prevailing wage source under the H-2B regulations. On December 23, 2022, the U.S. District Court for the District of Columbia held that the employer-provided survey provision under the Wage Methodology for the Temporary Non-Agricultural Employment H-2B Program final rule (2015 Wage Rule) in 20 CFR part 655 subpart A did not satisfy the notice and comment requirements under the Administrative Procedure Act (APA). Williams, et al. v. Walsh, et al. (Williams), 648 F. Supp. 3d 70 (D.D.C. 2022). The court remanded the rule without vacatur and ordered “action with haste” for further consideration consistent with the court's opinion. The Department plans to issue a final rule on the employer-provided survey provision of the 2015 Wage Rule to cure the procedural defect of the 2015 Wage Rule, pursuant to the decision in Williams.

Timetable:

Action | Date | FR Cite
NPRM | 11/18/24 | 89 FR 90646
NPRM Comment Period End | 01/17/25
Final Rule | 04/00/26

Regulatory Flexibility Analysis Required: Yes

Agency Contact: Brian Pasternak, Administrator, Department of Labor, Employment and Training Administration, 200 Constitution Avenue NW, Office of Foreign Labor Certification; Room N-5311, FP Building, Washington, DC 20210

Phone: 202 693-8200

Email: pasternak.brian@dol.gov

RIN: 1205-AC15

Department of Labor (DOL): Employment and Training Administration (ETA) | Completed Actions

117. TEMPORARY EMPLOYMENT OF H-2B FOREIGN WORKERS IN THE UNITED STATES [1205-AB93]

Legal Authority: 8 U.S.C. 1184; 8 U.S.C. 1103; sec. 655.0 issued under 8 U.S.C. 1101(a)(15)(E)(iii), 1101(a)(15)(H)(i) and (ii); 8 U.S.C. 1103(a)(6), 1182(m), (n) and (t), 1184(c), (g), and (j), 1188, and 1288(c) and (d); sec. 3(c)(1), Pub. L. 101-238, 103 Stat. 2099, 2102 (8 U.S.C. 1182 note); sec. 221(a), Pub. L. 101-649, 104 Stat. 4978, 5027 (8 U.S.C. 1184 note); sec. 303(a)(8), Pub. L. 102-232, 105 Stat. 733, 1748 (8 U.S.C. 1101 note); sec. 323(c), Pub. L. 103-206, 107 Stat. 2428; sec. 412(e),; Pub. L. 105-277, 112 Stat. 2681 (8 U.S.C. 1182 note); sec. 2(d), Pub. L. 106-95, 113 Stat. 1312, 1316 (8 U.S.C. 1182 note); 29 U.S.C. 49k; Pub. L. 107-296, 116 Stat. 2135, as amended; Pub. L. 109-423, 120 Stat. 2900; . . .

Abstract: The United States Department of Labor (DOL) considered updating the process by which employers seeking to employ H-2B workers would obtain temporary certification from DOL for use in petitioning DHS to employ a nonimmigrant worker in H-2B status. The Department is withdrawing this item from the Regulatory Agenda.

Timetable:

Action | Date | FR Cite
Withdrawn | 04/21/25

Regulatory Flexibility Analysis Required: Yes

Agency Contact: Brian Pasternak, Administrator, Department of Labor, Employment and Training Administration, 200 Constitution Avenue NW, Office of Foreign Labor Certification; Room N-5311, FP Building, Washington, DC 20210

Phone: 202 693-8200

Email: pasternak.brian@dol.gov

RIN: 1205-AB93

118. NATIONAL APPRENTICESHIP SYSTEM ENHANCEMENTS [1205-AC13]

Legal Authority: The National Apprenticeship Act, as amended (50 Stat. 664) 29 U.S.C. 50

Abstract: The Department withdrew its notice of proposed rulemaking published on January 17, 2024 (89 FR 3118), and terminated the rulemaking proceedings regarding revisions to the Federal regulations implementing the National Apprenticeship Act of 1937.

Timetable:

Action | Date | FR Cite
NPRM | 01/17/24 | 89 FR 3118
NPRM Comment Period End | 03/18/24
Withdrawn | 12/27/24 | 89 FR 105504

Regulatory Flexibility Analysis Required: Yes

Agency Contact: Megan Baird, Acting Administrator, Office of Apprenticeship, Department of Labor, Employment and Training Administration, 200 Constitution Avenue NW, Room C-5311, Washington, DC 20210

Phone: 202 693-2796

Fax: 202 693-3799

Email: baird.megan@dol.gov

RIN: 1205-AC13

Department of Labor (DOL): Employee Benefits Security Administration (EBSA) | Final Rule Stage

119. INDEPENDENT DISPUTE RESOLUTION OPERATIONS [1210-AC17]

Legal Authority: Pub. L. 116-260, Div. BB, Title I and Title II

Abstract: This document finalizes rules related to certain provisions of the No Surprises Act regarding the Federal independent dispute resolution (IDR) process, which was established as part of the Consolidated Appropriations Act, 2021 (CAA). This rule sets forth new requirements relating to the disclosure of information that group health plans and health insurance issuers offering group or individual health insurance coverage must include along with the initial payment or notice of denial of payment for certain items and services subject to the surprise billing protections in the No Surprises Act. This rule also requires plans and issuers to communicate information by using claim adjustment reason codes (CARCs) and remittance advice remark codes (RARCs), as specified in guidance, when providing any paper or electronic remittance advice to an entity that does not have a contractual relationship with the plan or issuer. This document also amends certain requirements related to the open negotiation period preceding the Federal IDR process, the initiation of the Federal IDR process, the Federal IDR dispute eligibility review, and the payment and collection of administrative fees and certified IDR entity fees. This document also defines bundled payment arrangements, amends requirements related to batched items and services, and amends the rules for extensions of timeframes due to extenuating circumstances. Additionally, this document requires plans and issuers to register in the Federal IDR portal.

Timetable:

Action | Date | FR Cite
NPRM | 11/03/23 | 88 FR 75744
NPRM Comment Period End | 01/02/24
NPRM Comment Period Reopened | 01/22/24 | 89 FR 3896
NPRM Comment Period Reopened End | 02/05/24
Final Action | 11/00/25

Regulatory Flexibility Analysis Required: Yes

Agency Contact: Amber Rivers, Director, Office of Health Plan Standards and Compliance Assistance, Department of Labor, Employee Benefits Security Administration, 200 Constitution Avenue NW, Washington, DC 20210

Phone: 202 693-8335

Email: rivers.amber@dol.gov

RIN: 1210-AC17

Department of Labor (DOL): Employee Benefits Security Administration (EBSA) | Completed Actions

120. ENHANCING COVERAGE OF PREVENTIVE SERVICES UNDER THE AFFORDABLE CARE ACT (CMS-9887-P) [1210-AC25]

Legal Authority: 29 U.S.C. 1185d

Abstract: This rule would amend the regulations implementing the Affordable Care Act's requirement that non-grandfathered group health plans and health insurance issuers offering non-grandfathered group or individual health insurance coverage cover recommended preventive services without cost sharing. Among other actions, the rule would take steps to expand access to certain recommended preventive items and services that are available over-the-counter; require coverage of certain preventive drugs and drug-led devices in a manner that minimizes barriers to accessing the drug or drug-led device of one's choice; reduce the likelihood that individuals face unexpected out-of-pocket costs when they receive preventive services; and ensure medical management techniques are reasonable and do not unduly prevent individuals from accessing certain preventive services. Together, these actions would make it easier for covered individuals to access certain preventive services and improve health outcomes.

Timetable:

Action | Date | FR Cite
NPRM | 10/28/24 | 89 FR 85750
NPRM Comment Period End | 12/27/24
NPRM Withdrawn | 01/25/25 | 90 FR 3728

Regulatory Flexibility Analysis Required: Yes

Agency Contact: Amber Rivers, Director, Office of Health Plan Standards and Compliance Assistance, Department of Labor, Employee Benefits Security Administration, 200 Constitution Avenue NW, Washington, DC 20210

Phone: 202 693-8335

Email: rivers.amber@dol.gov

RIN: 1210-AC25

Department of Labor (DOL): Occupational Safety and Health Administration (OSHA) | Proposed Rule Stage

121. COMMUNICATION TOWER SAFETY [1218-AC90]

Legal Authority: 29 U.S.C. 655(b)

Abstract: After a spike in fatalities associated with work on communication towers, in 2015, OSHA published a Request for Information (RFI) to collect information about the nature and causes of these fatalities, how they could be best prevented, and whether a new OSHA standard specific to this work environment was needed. OSHA also convened a Small Business Regulatory Enforcement Fairness Act (SBREFA) panel to asses how to best address associated safety and health concerns. To the extent a new standard or changes to existing OSHA safety standards are needed to address these hazards, this rulemaking will implement the necessary regulatory requirements.

Timetable:

Action | Date | FR Cite
Request for Information (RFI) | 04/15/15 | 80 FR 20185
RFI Comment Period End | 06/15/15
Initiate SBREFA | 01/04/17
Initiate SBREFA | 05/31/18
Complete SBREFA | 10/11/18
NPRM | 10/00/25
Next Action Undetermined | To Be Determined

Regulatory Flexibility Analysis Required: Yes

Agency Contact: Brian Rizzzo, Acting Director, Directorate of Construction, Department of Labor, Occupational Safety and Health Administration, Room N-3468, 200 Constitution Avenue NW, Washington, DC 20210

Phone: 202 693-2495

Email: rizzo.brian.a@dol.gov

RIN: 1218-AC90

122. EMERGENCY RESPONSE [1218-AC91]

Legal Authority: 29 U.S.C. 655(b); 29 U.S.C. 657

Abstract: The Occupational Safety and Health Administration (OSHA) currently regulates aspects of emergency response and preparedness; some of these standards were promulgated decades ago, and none were designed as comprehensive emergency response standards. Consequently, they do not address the full range of hazards or concerns currently facing emergency responders, and other workers providing skilled support, nor do they reflect major changes in performance specifications for protective clothing and equipment. The agency acknowledges that current OSHA standards also do not reflect all the major developments in safety and health practices that have already been accepted by the emergency response community and incorporated into industry consensus standards.

The regulatory effort began in 2007 with a Request for Information (RFI). In July 2014, OSHA hosted two stakeholder meetings with participants representing a broad range of emergency responders as well as allied stakeholders such as State Plan representatives, skilled support workers, and law enforcement. Given the broad support and interest seen during the stakeholder meetings, OSHA decided to move forward with a comprehensive proposed standard for emergency response. In September 2015, OSHA requested, and NACOSH designated, a subcommittee made up of major stakeholders and charged with developing proposed regulatory text. The subcommittee held six meetings over the course of a year. In December 2016, the full NACOSH committee reviewed and approved the recommendations for a proposed rule developed by the subcommittee. The committee recommended to the Secretary that OSHA proceed with rulemaking, using the subcommittee's regulatory text as a basis for the rule. In October 2021, a Small Business Advocacy Review (SBAR) panel was assembled, as required by the Small Business Regulatory Enforcement Fairness Act of 1996 (SBREFA); SBREFA was concluded in December; 2021. OSHA published a Notice of Proposed Rulemaking (NPRM) in February 2024.

To encourage and increase stakeholder feedback regarding the proposed rule, OSHA twice extended the original 90-day public comment period by a total of 76 days: from May 6 until July 22. The agency held an 11-day informal public hearing with beginning on November 12, 2024. Testimony was provided by 266 stakeholders from around the country who provided their input, shared data, and expressed their opinions. The post-hearing written comment period concluded on January 17, 2025, OSHA is currently reviewing the testimony and evidence from the public hearing and post-hearing comment period.

Timetable:

Action | Date | FR Cite
Stakeholder Meetings | 07/30/14
Convene NACOSH Workgroup | 09/09/15
NACOSH Review of Workgroup Report | 12/14/16
Initiate SBREFA | 08/02/21
Finalize SBREFA | 12/02/21
NPRM | 02/05/24 | 89 FR 7774
Comment Period Extended | 03/28/24 | 89 FR 21468
NPRM Comment Period Extended | 06/11/24 | 89 FR 49119
NPRM Comment Period End | 07/22/24
NPRM, Notice of Informal Public Hearing | 07/23/24 | 89 FR 59712
Informal Public Hearing | 11/12/24 | 89 FR 59712
Post-Hearing Comment Period End | 01/17/25
NPRM Analyze Comments | 11/00/25

Regulatory Flexibility Analysis Required: Yes

Agency Contact: Andrew Levinson, Director, Directorate of Standards and Guidance, Department of Labor, Occupational Safety and Health Administration, 200 Constitution Avenue NW, FP Building, Room N-3718, Washington, DC 20210

Phone: 202 693-1950

Email: levinson.andrew@dol.gov

RIN: 1218-AC91

123. TREE CARE STANDARD [1218-AD04]

Legal Authority: 29 U.S.C. 655

Abstract: There is no Occupational Safety and Health Administration (OSHA) standard for tree care operations; the agency currently applies a patchwork of standards to address the serious hazards in this industry. The tree care industry previously petitioned the agency for rulemaking and OSHA issued an ANPRM (September 2008). OSHA completed a Small Business Regulatory Enforcement Fairness Act (SBREFA) panel in May 2020, collecting information from affected small entities on a potential standard, including the scope of the standard, effective work practices, and arboricultural specific uses of equipment to guide OSHA in developing a rule that would best address industry safety and health concerns. Tree care continues to be a high-hazard industry. OSHA completed the SBREFA process in May 2020.

Timetable:

Action | Date | FR Cite
Stakeholder Meeting | 07/13/16
Initiate SBREFA | 01/10/20
Complete SBREFA | 05/22/20
NPRM | 04/00/26

Regulatory Flexibility Analysis Required: Yes

Agency Contact: Andrew Levinson, Director, Directorate of Standards and Guidance, Department of Labor, Occupational Safety and Health Administration, 200 Constitution Avenue NW, FP Building, Room N-3718, Washington, DC 20210

Phone: 202 693-1950

Email: levinson.andrew@dol.gov

RIN: 1218-AD04

124. HEAT INJURY AND ILLNESS PREVENTION IN OUTDOOR AND INDOOR WORK SETTINGS [1218-AD39]

Legal Authority: 29 U.S.C. 655; 5 U.S.C. 553

Abstract: Excessive heat in the workplace can cause a number of adverse health effects, including heat stroke and even death, if not treated properly.

Workers in outdoor and indoor work settings without adequate climate controls are at risk of hazardous heat exposure. Certain heat-generating processes, machinery, and equipment (e.g., hot tar ovens, furnaces, etc.) can also cause hazardous heat when cooling measures are not in place.

To date, California, Colorado, Maryland, Minnesota, Nevada, Oregon and Washington have issued heat protections. The Occupational Safety and Health Administration (OSHA) currently relies on the general duty clause (OSHA Act section 5(a)(1)) to protect workers from this hazard. However, a standard specific to heat-related injury and illness prevention would more clearly set forth enforceable employer obligations and the measures necessary to effectively protect employees from hazardous heat.

OSHA published an ANPRM on Heat Injury and Illness Prevention in Outdoor and Indoor Work Settings (October 27, 2021) to begin a dialogue and engage with stakeholders to explore the potential for rulemaking on this topic. On May 3, 2022, OSHA held a virtual public stakeholder meeting on the Agency's initiatives to protect workers from heat-related hazards. OSHA also established a Heat Injury and Illness Prevention Work Group of the National Advisory Committee on Occupational Safety and Health (NACOSH) to help NACOSH provide recommendations on potential elements of a heat injury and illness prevention standard. On May 31, 2023, the Work Group presented its recommendations to the full committee, which submitted the recommendations to OSHA (www.regulations.gov, Document No. OSHA-2023-0003-0012).

In August 2023, OSHA convened a Small Business Advocacy Review (SBAR) Panel, in accordance with the requirements of the Small Business Regulatory Enforcement Fairness Act (SBREFA), to hear comments directly from small entity representatives (SERs) on the potential impacts of a heat-specific standard. OSHA completed its small business consultations as another important step in this process in November 2023.

On April 24, 2024, OSHA presented to the Advisory Committee on Construction Safety and Health (ACCSH) the Agency's framework for this proposed rule, in accordance with 29 CFR 1911.10(a) which requires the Assistant Secretary to provide ACCSH with any proposal (along with pertinent factual information) affecting construction work and give ACCSH an opportunity to submit recommendations. ACCSH passed unanimously a motion recommending that OSHA proceed expeditiously with proposing a standard on heat injury and illness prevention.

On August 30, 2024, OSHA published in the Federal Register a Notice of Proposed Rulemaking (NPRM) for Heat Injury and Illness Prevention in Outdoor and Indoor Work Settings. The proposed standard would apply to all employers conducting outdoor and indoor work in all general industry, construction, maritime, and agriculture sectors where OSHA has jurisdiction. The standard would require employers to create a plan to evaluate and control heat hazards in their workplace. It would clarify employer obligations and the steps necessary to effectively protect employees from hazardous heat.

The publication of the NPRM in the Federal Register began a public comment period that was extended until January 14, 2025. When the agency extended the public comment period, it also announced an informal public hearing to receive additional public input on the proposed standard. Public comments will help the agency develop a final rule that adequately protects workers, is feasible for employers, and is based on the best available evidence.

Timetable:

Action | Date | FR Cite
ANPRM | 10/27/21 | 86 FR 59309
ANPRM Comment Period Extended | 12/02/21 | 86 FR 68594
ANPRM Comment Period Extended End | 01/26/22
Initiate SBREFA | 06/02/23
Complete SBREFA | 11/03/23
NPRM | 08/30/24 | 89 FR 70698
NPRM Comment Period Extended; and Notice of Informal Public Hearing | 11/29/24 | 89 FR 94631
NPRM Comment Period End | 12/30/24
NPRM Comment Period Extended End | 01/14/25
Informal Public Hearing | 06/16/25

Regulatory Flexibility Analysis Required: Yes

Agency Contact: Andrew Levinson, Director, Directorate of Standards and Guidance, Department of Labor, Occupational Safety and Health Administration, 200 Constitution Avenue NW, FP Building, Room N-3718, Washington, DC 20210

Phone: 202 693-1950

Email: levinson.andrew@dol.gov

RIN: 1218-AD39

Department of Labor (DOL): Occupational Safety and Health Administration (OSHA) | Long-Term Actions

125. PROCESS SAFETY MANAGEMENT AND PREVENTION OF MAJOR CHEMICAL ACCIDENTS [1218-AC82]

Legal Authority: 29 U.S.C. 655; 29 U.S.C. 657

Abstract: The Occupational Safety and Health Administration (OSHA) issued a Request for Information (RFI) on December 9, 2013 (78 FR 73756). The RFI identified issues related to modernization of the Process Safety Management standard and related standards necessary to meet the goal of preventing major chemical accidents. OSHA completed SBREFA in August 2016. OSHA held a stakeholder meeting on October 12, 2022, and kept the docket open for comments until November 14, 2022.

Timetable:

Action | Date | FR Cite
Request for Information (RFI) | 12/09/13 | 78 FR 73756
RFI Comment Period Extended | 03/07/14 | 79 FR 13006
RFI Comment Period Extended End | 03/31/14
Initiate SBREFA | 06/08/15
SBREFA Report Completed | 08/01/16
Stakeholder Meeting
Next Action Undetermined | To Be Determined

Regulatory Flexibility Analysis Required: Yes

Agency Contact: Andrew Levinson, Director, Directorate of Standards and Guidance, Department of Labor, Occupational Safety and Health Administration, 200 Constitution Avenue NW, FP Building, Room N-3718, Washington, DC 20210

Phone: 202 693-1950

Email: levinson.andrew@dol.gov

RIN: 1218-AC82

126. WORKPLACE VIOLENCE IN HEALTH CARE AND SOCIAL ASSISTANCE [1218-AD08]

Legal Authority: 29 U.S.C. 655(b)

Abstract: Workplace violence against employees providing healthcare and social assistance services is a serious and longstanding concern. The Occupational Safety and Health Administration (OSHA) issued Guidelines for Preventing Workplace Violence for Healthcare and Social Service Workers in 1996 and updated the guidelines in 2004 and 2016. OSHA has also used the general duty clause (Section 5(a)(1) of the Occupational Safety and Health Act) in enforcement cases addressing workplace violence in healthcare.

OSHA published a Request for Information on December 7, 2016, (81 FR 88147) seeking information about the extent and nature of workplace violence in the industry and the nature and effectiveness of interventions and controls used to prevent such violence. Also in 2016, a broad coalition of labor unions petitioned OSHA to issue a standard to address workplace violence in healthcare, and National Nurses United submitted a separate petition for a workplace violence standard. On January 10, 2017, OSHA granted the petitions. In accordance with the requirements of the Small Business Regulatory Enforcement Fairness Act, OSHA convened a Small Business Advocacy Review (SBAR) panel in March 2023 to consider a potential standard for prevention of workplace violence in healthcare and social assistance. The SBAR Panel issued its report on May 1, 2023.

Timetable:

Action | Date | FR Cite
Request for Information (RFI) | 12/07/16 | 81 FR 88147
RFI Comment Period End | 04/06/17
Initiate SBREFA | 12/29/22
Complete SBREFA
NPRM | To Be Determined

Regulatory Flexibility Analysis Required: Yes

Agency Contact: Andrew Levinson, Director, Directorate of Standards and Guidance, Department of Labor, Occupational Safety and Health Administration, 200 Constitution Avenue NW, FP Building, Room N-3718, Washington, DC 20210

Phone: 202 693-1950

Email: levinson.andrew@dol.gov

RIN: 1218-AD08

Department of Labor (DOL): Occupational Safety and Health Administration (OSHA) | Completed Actions

127. INFECTIOUS DISEASES [1218-AC46]

Legal Authority: 5 U.S.C. 533; 29 U.S.C. 657 and 658; 29 U.S.C. 660; 29 U.S.C. 666; 29 U.S.C. 669; 29 U.S.C. 673

Abstract: Employees in health care and other high-risk environments face long-standing infectious disease hazards such as tuberculosis (TB), varicella disease (chickenpox, shingles), Methicillin-Resistant Staphylococcus Aureus (MRSA), and measles, as well as new and emerging infectious disease threats, such as Severe Acute Respiratory Syndrome (SARS), the 2019 Novel Coronavirus (COVID-19), and pandemic influenza. OSHA examined regulatory alternatives for control measures to protect employees in these settings from exposure to pathogens that can cause significant infectious disease. Workplaces where such control measures might be necessary include: health care, emergency response, and other occupational settings where employees can be at increased risk of exposure to individuals who are potentially infectious. A standard could also apply to laboratories which handle materials that may be a source of pathogens, and to settings where human remains are handled (e.g., morgues, mortuaries, funeral homes). OSHA published a Request for Information in 2010 and completed SBREFA in 2024. OSHA withdrew its draft proposal from OIRA review on January 14, 2025.

In accordance with Executive Order 14192 (Unleashing Prosperity through Deregulation), the agency has concluded that rulemaking on infectious disease is no longer an agency priority and is withdrawing this rulemaking from the regulatory agenda.

Timetable:

Action | Date | FR Cite
Request for Information (RFI) | 05/06/10 | 75 FR 24835
RFI Comment Period End | 08/04/10
Analyze Comments | 12/30/10
Stakeholder Meetings | 07/05/11 | 76 FR 39041
Initiate SBREFA | 06/04/14
Complete SBREFA | 12/22/14
Withdrawn | 04/21/25

Regulatory Flexibility Analysis Required: Yes

Agency Contact: Andrew Levinson, Director, Directorate of Standards and Guidance, Department of Labor, Occupational Safety and Health Administration, 200 Constitution Avenue NW, FP Building, Room N-3718, Washington, DC 20210

Phone: 202 693-1950

Email: levinson.andrew@dol.gov

RIN: 1218-AC46

[FR Doc. 2025-18336 Filed 9-19-25; 8:45 am]

BILLING CODE 4510-HL-P